DEPARTMENT OF COMMERCE

National Oceanic and Atmospheric Administration

RIN 0648-XC285

Gulf of Mexico Fishery Management Council; Public Meetings

AGENCY: National Marine Fisheries Service (NMFS), National Oceanic and Atmospheric Administration (NOAA), Commerce.

ACTION: Notice of public meetings.

SUMMARY: The Gulf of Mexico Fishery Management Council (Council) will convene a public meeting.

DATES: The meeting will be held Monday, October 29-Thursday, November 1, 2012.

ADDRESSES: The meeting will be held at the Courtyard Marriott, 1600 East Beach Boulevard, Gulfport, MS 39501; telephone: (228) 864-4310.

Council address: Gulf of Mexico Fishery Management Council, 2203 North Lois Avenue, Suite 1100, Tampa, FL 33607.

FOR FURTHER INFORMATION CONTACT: Dr. Stephen Bortone, Executive Director, Gulf of Mexico Fishery Management Council; telephone: (813) 348-1630.

SUPPLEMENTARY INFORMATION:

Committees

Monday, October 29, 2012

10 a.m.-10:30 a.m.—The Ad Hoc Restoration Committee will meet to discuss options for potential restoration projects under National Resource Damage Assessment process and the RESTORE Act.

10:30 a.m.-11:30 a.m.—The Data Collection Committee will review a Scoping Document for Electronic Reporting Requirements by For-Hire Vessels.

—Recess—

1 p.m.-3 p.m.—The Shrimp Management Committee will discuss the status of the Electronic Logbook reporting program; review new Shrimp Stock Assessments for Penaeid Shrimp; review the SSC recommendations; review the Status and Health of Gulf Shrimp Stocks; and discuss Exempted Fishing Permits related to Shrimp (if any).

3 p.m.-3:30 p.m.—The SSC Selection Committee will discuss the duties and responsibilities of the SSC.

3:30 p.m.-4 p.m.—The Advisory Panel Selection Committee in a CLOSED SESSION with the FULL COUNCIL will review and appoint members to the new Ad Hoc Artificial Substrate Advisory Panel and discuss appointments of former Council members to advisory panels.

4 p.m.-5 p.m.—CLOSED SESSION—FULL COUNCIL will meet to receive a report from NOAA's General Counsel.

Tuesday, October 30, 2012

8:30 a.m.-11:30 a.m. and 12:30 p.m.-5:30 p.m.—The Reef Fish Management Committee will discuss the Red Snapper Individual Fishing Quota 5-Year Review, including the Socioeconomic SSC recommendations; review the Economic Evaluation of Red Snapper Allocation; take Final Action on Amendment 37—Gray Triggerfish Rebuilding Plan; review a Scoping Document for Amendment 39—Regional Management of Red Snapper; discuss the 2013 Red Snapper Season and Non-Compliance by States; review a Draft Regulatory Amendment for Vermilion Snapper Annual Catch Limits and Bag Limits; take Final Action on a Regulatory Amendment to set the 2013 Gag Recreational Season and Bag Limits; discuss the SEDAR 27—Yellowtail Snapper Benchmark Assessment; review any additional comments from the Scientific and Statistical Committee and from the Socioeconomic Scientific and Statistical Committee; and discuss Exempted Fishing Permits related to Reef Fish (if any).

—Recess—

Immediately following the Committee Recess will be the Informal Question & Answer Session on Gulf of Mexico Fishery Management Issues.

Wednesday, October 31, 2012

8:30 a.m.-9:30 a.m.—The Reef Fish Management Committee will continue with discussions on agenda items from the previous day.

9:30 a.m.-10 a.m.—The Joint Reef Fish/Mackerel/Red Drum Committees will meet to review changes to the aquaculture proposed rule. They will also consider modifications to the Coastal Migratory Pelagics reporting requirements suggested by the South Atlantic Fishery Management Council under its Comprehensive Ecosystem-Based Amendment 3.

10 a.m.-11:30 a.m.—The Law Enforcement Committee will review and approve a new Gulf of Mexico Cooperative Law Enforcement Strategic Plan 2013-16 and a new Gulf of Mexico Cooperative Law Enforcement Operations Plan 2013-14.

—Recess—

Council

Wednesday, October 31, 2012

1 p.m.—The Council meeting will begin at with a Call to Order and Introductions.

1:10 p.m.-1:20 p.m.—The Council will review the agenda and approve the minutes.

1:20 p.m.-1:30 p.m.—The Council will approve the 2013 Committee Appointments.

1:30 p.m.-1:35 p.m.—The Council will review the Action Schedule.

1:35 p.m.-1:45 p.m.—The Council will review Exempted Fishing Permits (EFP), if any.

1:45 p.m.-5:30 p.m.—The Council will receive public testimony on Final Reef Fish Amendment 37—Gray Triggerfish Rebuilding Plan; a Regulatory Amendment to set the 2013 Gag Recreational Season and Bag Limits; and Exempted Fishing Permits (EFPs), if any. The Council will also hold an open public comment period regarding any other fishery issues or concerns. People wishing to speak before the Council should complete a public comment card prior to the comment period.

Thursday, November 1, 2012

8:30 a.m.-8:45 a.m.—The Council will vote on Exempted Fishing Permits (if any).

8:45 a.m.-3:30 p.m.—The Council will review and discuss reports from committee meetings as follows: Ad Hoc Restoration, Reef Fish, Data Collection, Shrimp, Mackerel, SSC Selection, AP Selection, Joint Reef Fish/Mackerel/Red Drum, and Law Enforcement.

3:30 p.m.-4 p.m.—Other Business items will follow.

Although other non-emergency issues not on the agendas may come before the Council and Committees for discussion, in accordance with the Magnuson Stevens Fishery Conservation and Management Act (Magnuson-Stevens Act), those issues may not be the subject of formal action during these meetings. Actions of the Council and Committees will be restricted to those issues specifically identified in the agendas and any issues arising after publication of this notice that require emergency action under Section 305(c) of the Magnuson-Stevens Act, provided the public has been notified of the Council's intent to take action to address the emergency.

The established times for addressing items on the agenda may be adjusted as necessary to accommodate the timely completion of discussion relevant to the agenda items. In order to further allow for such adjustments and completion of all items on the agenda, the meeting may be extended from, or completed prior to the date/time established in this notice.

Special Accommodations

The meeting is physically accessible to people with disabilities. Requests for sign language interpretation or other auxiliary aids should be directed to Kathy Pereira at the Council Office (see ADDRESSES) at least 5 working days prior to the meeting.

Dated: October 9, 2012.
Tracey L. Thompson,
Acting Director, Office of Sustainable Fisheries, National Marine Fisheries Service.

[FR Doc. 2012-25114 Filed 10-11-12; 8:45 am]

BILLING CODE 3510-22-P